DEPARTMENT OF DEFENSE

Department of the Army; Corps of Engineers

Availability of Integrated Feasibility Report & Environmental Impact Statement for the Flood Damage Reduction Project, Bloomsburg, PA

AGENCY: Department of the Army; U.S. Corps of Engineers, DOD.

ACTION: Notice of availability.

SUMMARY: In accordance with the requirements of the National Environmental Policy Act (NEPA), the U.S. Army Corps of Engineers (USACE), Baltimore District has prepared a Final Integrated Feasibility Report & Environmental Impact Statement (EIS) for the flood damage reduction project for the Town of Bloomsburg, in Columbia County, PA. The Final Integrated Feasibility Report investigated the potential environmental effects of an array of alternative plans based on reducing flood damages in Bloomsburg. The recommended alternative includes approximately 17,000 linear feet of levee/floodwall systems with fourteen drainage structures, and nine closure structures, six of which incorporate limited road raisings.

FOR FURTHER INFORMATION CONTACT: Mr. Jeff Trulick, Study Manager, (410) 962-6715 or (800) 295-1610 or via e-mail at jeff.trulick@usace.army.mil.

SUPPLEMENTARY INFORMATION: The Town of Bloomsburg, PA, is located in Columbia County within the Middle Susquehanna River sub-basin. The Susquehanna River forms the Town's southern boundary, and Fishing Creek forms the northern and western boundary.

The primary water resources problem along the Susquehanna River at Bloomsburg is recurrent flooding. Recurrent flooding that occurs in the Bloomsburg study area is a result of the morphology of the Susquehanna River and the regional topography. When the Susquehanna River and a local tributary, Fishing Creek, simultaneously rise above flood stage, overbank flooding can cover up to 33 percent of the landmass within the Town of Bloomsburg's boundaries.

Flood damages are attributable to overbank flooding from the Susquehanna River and to flooding along Fishing Creek. Past flood events have resulted in extensive damages to structures and their contents and have threatened public safety. The Bloomsburg study area includes approximately 525 residential structures and 75 businesses.

The recommended flood damage reduction plan is the National Economic Development (NED) Plan with a Tropical Storm Agnes (440-year) level of protection from Susquehanna River flooding, and 100-year level of protection from Fishing Creek flooding. The alignment of the line of protection was refined based on physical, environmental, and economic criteria.

The project consists of a system of earthen levees, mechanically stabilized earth (MSE) floodwalls, concrete floodwalls, railroad and road closure structures and roadway relocations to provide ramps over the line of protection. Earthen levees are proposed for the majority of the line of protection, though MSE walls will be required along portions of Fishing Creek in both Bloomsburg and Fernville and a concrete floodwall (H-Pile wall) will be required along portions of Fishing Creek in Bloomsburg. Limited riprap will be used to protect the steep banks of Fishing Creek from bank crest to below the stream invert along the lower project reaches along Fishing Creek.

Permanent environmental impacts will include restricted views by the levee/floodwall system of Fishing Creek from Bloomsburg and Fernville, excavation and off-site disposal of approximately 4,500 cubic yards of hazardous, toxic and radioactive waste materials, conversion of approximately 11.5 acres of farmland designated as Prime Farmland or Additional Farmland of Statewide Importance to non-agricultural use, long-term loss of nearly 3,000 linear feet of riparian habitat along Fishing Creek, the loss of less than one acre of wetlands, and taking of residential homes and business structures within the levee/floodwall footprint.

USACE has distributed copies of the Final Integrated Feasibility Report and EIS to appropriate members of Congress, State and local government officials, Federal agencies, and other interested parties. Copies are available for public review at the following locations:

(1) Bloomsburg Public Library, 225 Market Street, Bloomsburg, PA 17815

(2) Bloomsburg University Library, 400 E. Second Street, Bloomsburg, PA 17815

You may also view the Final Integrated Feasibility Report and EIS in addition to related information on our Web page at http://www.nab.usace.army.mil/publications/non-reg_pub.htm.

The Final Integrated Feasibility Report and EIS has been prepared in accordance with (1) The National Environmental Policy Act (NEPA) of 1969, as amended (42 U.S.C. 4321 et seq.), (2) regulations of the Council on Environmental Quality for implementing the procedural provisions of NEPA (40 CFR parts 1500-1508), and (3) USACE regulations implementing NEPA (ER-200-2-2).

Jeff Trulick,
Study Manager, Civil Project Development Branch, Planning Division.

[FR Doc. 05-21522 Filed 10-27-05; 8:45 am]

BILLING CODE 3710-41-M